DEPARTMENT OF THE INTERIOR

Bureau of Land Management

43 CFR Parts 3195, 3196

[NM091-9971-EK-HE16]

RIN 1004-AD35

Federal Helium Program Regulations and Public Meetings

AGENCY: Bureau of Land Management, Interior.

ACTION: Advance Notice of Proposed Rule Making and Public Meetings.

SUMMARY: The Bureau of Land Management (BLM) requests comments and suggestions to assist in the writing of its regulations governing the Federal Helium Program. The rule would establish regulations for crude helium sales, helium pipeline and storage operations, helium reporting, and gas analyses to determine helium content. The rule would also revise and extend existing regulations for helium on Federal lands and for in-kind crude helium sales. The rule would help to manage the Federal Helium Program and to fulfill the requirements of the Helium Privatization Act of 1996. We encourage members of the public to participate in public meetings and to provide comments and suggestions to help to clearly define the requirements for the Federal Helium Program. Your help is specifically requested to identify and to offer comments and suggestions about conflicts between helium processes and procedures and those of other fluid minerals. We also ask you to request to be placed on BLM's mailing list if you wish to receive additional information.

DATES: We will accept comments and suggestions on the advance notice of proposed rule making until 5:00 p.m., Eastern Time on March 26, 2001. See the SUPPLEMENTARY INFORMATION section for the dates of the public meetings.

ADDRESSES: Commenters may mail written comments to the Bureau of Land Management, Administrative Record, Room 401LS, 1849 C Street, NW, Washington, DC 20240; or hand-deliver written comments to the Bureau of Land Management, Administrative Record, Room 401, 1620 L Street, NW, Washington, DC 20036. See SUPPLEMENTARY INFORMATION for the electronic access and filing address. Comments will be available for public review at the L Street address from 7:45 a.m. to 4:15 p.m., Eastern Time, Monday through Friday, except Federal holidays. Comments will also be available for public review at 801 South Fillmore, Suite 500, Amarillo, Texas, from 7:30 a.m. to 4 p.m., Central Time, Monday through Friday, except Federal holidays.

FOR FURTHER INFORMATION CONTACT: You may contact Jeanne McCubbin, at (806) 324-2655, Connie Neely, (806) 324-2635, or Shirlean Beshir, (202) 452-5033. Persons who use a telecommunications device for the deaf (TDD) may call the Federal Information Relay Service (FIRS) at 1-800-877-8330, 24 hours a day, seven days a week, to contact the above individuals.

SUPPLEMENTARY INFORMATION:

I. Public Comment Procedures

II. Background

III. Description of Information Requested

I. Public Comment Procedures

Your written comments should:

• Be specific;

• Explain the reason for your comments and suggestions;

• Be about the issues outlined in this notice; and

• Where possible, reference the specific section or paragraph of existing regulations which you are addressing.

The comments and recommendations, which are most useful and likely to influence decisions on the content of the proposed rule, are:

• Comments and recommendations supported by quantitative information or studies, and

• Comments which include citations to and analyses of the applicable laws and regulations.

We are particularly interested in receiving comments and suggestions about the topics listed under section III. Description of Information Requested.

Electronic Access and Filing Address

Commenters may transmit comments electronically via the Internet to WOComment@blm.gov. Please submit comments as an ASCII file and avoid the use of special characters or encryption. Please include “ATTN: AD35” and your name and address in your message. If you do not receive a confirmation from the system that we have received your Internet message, contact us directly at (202) 452-5030.

Public Meetings

The following topics will be covered at each public meeting: (1) Helium on Federal lands; (2) pipeline and storage facility operation and maintenance; (3) crude helium sales; (4) reporting and data collection; and (5) gas analyses to determine helium content.

We will conduct public meetings on the following dates at the specified locations and times:

• Amarillo Field Office, BLM, 801 S. Fillmore, Room 447, Amarillo, Texas, on January 8, 2001, from 6:30 p.m. to 8:30 p.m.

• Houston, Texas, Crowne Plaza (near Gallaria), 2222 W. Loop South, on January 10, 2001, from 6:30 p.m. to 8:30 p.m.

• Portland, Oregon, Doubletree Lloyd Center, 1000 NE., Multnomah, on January 17, 2001, from 6:30 p.m. to 8:30 p.m.

• Aurora, CO (Denver area south of airport), Marriott, 16455 E. 40th Circle, on January 23, 2001, from 6:30 p.m. to 8:30 p.m.‘

• Washington, DC, Capital Hilton, 16th & K Street, NW, on January 25, 2001, from 4 p.m. to 6 p.m.

The sites for the public meetings are accessible to individuals with physical impairments. If you need a special accommodation to participate in one or all of the meetings (e.g., interpreting service, assistive listening device, or materials in alternative format), please notify the contact person listed in this notice no later than two weeks prior to the scheduled meeting. Although we will attempt to meet a request received, the requested accommodation may not be available.

The meetings will be recorded by a stenographer and will become part of the formal Federal helium regulation record. If you plan to present a statement at the meetings, we will ask you to sign in before the meeting starts and to clearly identify yourself for the record. Your speaking time at the meeting(s) will be determined before the meeting(s), based upon the number of persons wishing to speak and the approximate time available for the session. You will be provided at least five minutes to speak.

If you do not wish to speak at the meetings but you have views, questions, and concerns about regulations for the Federal Helium Program, you may submit written statements for inclusion in the public record at the meeting. You may also submit written comments and suggestions regardless of whether you attend or speak at a public meeting. See the ADDRESSES section of this notice for the procedures.

II. Background

The Federal Helium Program has undergone many changes since its inception in 1925. Its original purpose was to ensure supplies of helium to the Federal Government for defense, research, and medical purposes. With time, the program evolved into a conservation program with a primary goal of supplying the Federal Government with high-grade helium for high-tech research and aerospace purposes. The most recent adaptation of the program was through the Helium Privatization Act of 1996, which redefined the primary functions as:

• Operating and maintaining a helium storage reservoir and pipeline system;

• Providing crude helium gas by contract with private companies;

• Evaluating the Nation’s helium-bearing gas fields; and

• Providing responsible access to Federal land for managed recovery and disposal of helium.

III. Description of Information Requested

We are committed to carrying out the provisions of the Helium Privatization Act of 1996 (50 U.S.C. 167). Topics we are considering for the proposed regulations include, but are not limited to the following:

Helium on Federal Lands: We will enter negotiated agreements with private parties for the recovery and disposal of helium produced from Federal leaseholds. The agreements will primarily be with:

(1) Existing gas processing plants which extract and sell Federal helium;

(2) Parties building plants with helium extraction capability.

We want commenters to clarify topics on the processes and procedures which would enable economic helium production, extraction, and sales.

We will also strive to establish regulations to facilitate coexistence of the Federal Helium Program with that of the Federal Oil and Gas Program. We seek comments about the following:

• Method of determining Federal ownership percentage of helium produced from secondary unit areas containing Federal helium. Can the process used for Federal leaseholds (based upon acreage and mineral ownership) be used for secondary units?

• Allowable production losses. Is it reasonable to allow an 8 percent loss of helium from the wellhead to the point of sale before seeking compensation?

• Helium drainage protection. Can we use a method similar to the one used to protect oil and gas to protect helium?

• Bonding for payment default and reclamation. Should we require a separate bond to cover helium production? Should we allow operators to transfer oil and gas bonds to provide bond coverage for helium?

• Plugged oil and gas wells. Is there a way to encourage and enable economic helium production and extraction when oil and gas wells are plugged or targeted for plugging?

• Incentives. What incentives should we establish to encourage helium production from gas streams in close proximity to extraction plants or in areas with low British Thermal Unit (BTU) gas content?

Crude Helium Sales: We would like to receive comments and suggestions about the existing regulations for in-kind crude helium sales (43 CFR 3195). In addition, we request your questions, concerns, comments, and recommendations of ways to meet the requirements for disposition of the Federal crude helium in storage (stockpile) (50 U.S.C. 167).

Reporting and Data Collection: We would like to receive comments and suggestions about the helium data collection and reporting processes. Specifically, we seek comments and suggestions about the following:

• Is there a way for the oil and gas industry to include helium in their standard gas analysis process to enable better data collection of helium content of gas fields?

• What are the best ways for BLM to determine and confirm the location and amounts of helium resources outside the United States?

Gas Analyses to Determine Helium Content: We seek comments about the following:

• Would it be feasible for BLM to send a helium sample to your company lab or company contract lab for analysis and report the helium results? The lab analysis data would be compared to BLM's analysis.

• Could members of the oil and gas industry send replicate gas stream samples to the BLM laboratory, if requested?

Additional information about the Federal Helium Program is available on the Internet at Helium—Regulations@nm.blm.gov.

Dated: December 12, 2000.
Sylvia V. Baca,
Assistant Secretary, Land and Minerals Management.

[FR Doc. 00-32291 Filed 12-14-00; 3:47 pm]

BILLING CODE 4310-84-P